DEPARTMENT OF HOMELAND SECURITY

Federal Emergency Management Agency

[Internal Agency Docket No. FEMA-3300-EM;Docket ID FEMA-2008-0018]

District of Columbia; Emergency and Related Determinations

AGENCY: Federal Emergency Management Agency, DHS.

ACTION: Notice.

SUMMARY: This is a notice of the Presidential declaration of an emergency for the District of Columbia (FEMA-3300-EM), dated January 13, 2009, and related determinations.

DATES: Effective Date: January 13, 2009.

FOR FURTHER INFORMATION CONTACT: Peggy Miller, Disaster Assistance Directorate, Federal Emergency Management Agency, 500 C Street, SW., Washington, DC 20472, (202) 646-2705.

SUPPLEMENTARY INFORMATION: Notice is hereby given that, in a letter dated January 13, 2009, the President issued an emergency declaration under the authority of the Robert T. Stafford Disaster Relief and Emergency Assistance Act, 42 U.S.C. 5121-5207 (the Stafford Act), as follows:

I have determined that the emergency conditions in the District of Columbia resulting from the 56th Presidential Inauguration during the period of January 17-21, 2009, are of sufficient severity and magnitude to warrant an emergency declaration under the Robert T. Stafford Disaster Relief and Emergency Assistance Act, 42 U.S.C. §§ 5121-5207 (the Stafford Act). Therefore, I declare that such an emergency exists in the District of Columbia.

You are authorized to provide appropriate assistance for required emergency measures, authorized under Title V of the Stafford Act to save lives and protect public health and safety, or to lessen or avert the threat of a catastrophe in the designated areas. Specifically, you are authorized to provide direct Federal assistance at 100 percent Federal funding for the period of January 17-21, 2009; and reimbursement of emergency protective measures (Category B), under the Public Assistance program, at 100 percent Federal funding for work performed on January 20, 2009. FEMA will reimburse for eligible emergency protective measures performed on January 20, 2009, only if the District has expended on the Presidential Inauguration during the period of January 17-21, 2009, the $15 million appropriated to it for “Emergency Planning and Security Costs” by the Continuing Appropriations Resolution 2009, P.L. 110-329. In addition, you are authorized to provide such other forms of assistance under Title V of the Stafford Act as you may deem appropriate.

In order to provide Federal assistance, you are hereby authorized to allocate from funds available for these purposes such amounts as you find necessary for Federal emergency assistance and administrative expenses.

Further, you are authorized to make changes to this declaration to the extent allowable under the Stafford Act.

The Federal Emergency Management Agency (FEMA) hereby gives notice that pursuant to the authority vested in the Administrator, Department of Homeland Security, under Executive Order 12148, as amended, Donald L. Keldsen, of FEMA is appointed to act as the Federal Coordinating Officer for this declared emergency.

The following areas of the District of Columbia have been designated as adversely affected by this declared emergency:

The District of Columbia for direct Federal assistance at 100 percent Federal funding for the period of January 17-21, 2009; and reimbursement of emergency protective measures (Category B), under the Public Assistance program, at 100 percent Federal funding for work performed on January 20, 2009. FEMA will reimburse for eligible emergency protective measures performed on January 20, 2009, only if the District has expended on the Presidential Inauguration during the period of January 17-21, 2009, the $15 million appropriated to it for “Emergency Planning and Security Costs” by the Continuing Appropriations Resolution 2009, Public Law 110-329.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050, Presidentially Declared Disaster Assistance to Individuals and Households—Other Needs; 97.036, Disaster Grants—Public Assistance (Presidentially Declared Disasters); 97.039, Hazard Mitigation Grant.

R. David Paulison,
Administrator, Federal Emergency Management Agency.

[FR Doc. E9-1878 Filed 1-28-09; 8:45 am]

BILLING CODE 9111-23-P